DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce a meeting of the Strategic Environmental Research and Development Program, Scientific Advisory Board (SAB). This meeting will be open to the public.

DATES: Wednesday, September 10, 2014, from 9:00 a.m. to 4:30 p.m.

ADDRESSES: 901 N. Stuart Street, Suite 200, Arlington, VA 22203.

FOR FURTHER INFORMATION CONTACT: Dr. Anne Andrews, SERDP Office, 4800 Mark Center Drive, Suite 17D08, Alexandria, VA 22350-3605; or by telephone at (571) 372-6565.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the September 10, 2014 meeting is to review new start research and development projects requesting Strategic Environmental Research and Development Program funds in excess of $1 million over the proposed length of the project as required by the SERDP Statute, U.S. Code—Title 10, Subtitle A, Part IV, Chapter 172, § 2904. The full agenda follows:

9:00 a.m. | Convene/Opening Remarks Approval of June 2014 Minutes | Mr. Joseph Francis, Chair.
9:10 a.m. | Program Update | Dr. Anne Andrews, Acting Executive Director.
9:25 a.m. | Weapons Systems and Platforms Overview | Dr. Robin Nissan, Weapons Systems and Platforms, Program Manager.
9:35 a.m. | 15 WP01-007 (WP-2518): Environmentally Sustainable Gasless Delay Compositions For Fuzes (FY15 New Start) | Dr. Jay Poret, US Army ARDEC, Picatinny Arsenal, NJ.
10:20 a.m. | Break
10:35 a.m. | 15 WP01-013 (WP-2519): Environmentally Benign Multi-Component Delay System with Tunable Propagation Characteristics (FY15 New Start) | Dr. Zac Doorenbos, Innovative Materials and Processes, LLC, Rapid City, SD.
11:20 a.m. | Resource Conservation and Climate Change Overview | Dr. John Hall, Resource Conservation and Climate Change, Program Manager.
11:30 a.m. | 15 RC02-041 (RC-2517): Incorporation of the Effects of Future Anthropogenically-Forced Climate Change in Intensity-Duration-Frequency Design Values (FY15 New Start) | Dr. Kenneth Kunkel, North Carolina State University, Asheville, NC.
12:15 p.m. | Lunch
1:15 p.m. | 15 RC02-020 (RC-2513): Effects of Global Change on Extreme Precipitation and Flooding: New approaches to IDF and Regional Flood Frequency Estimation (FY15 New Start) | Dr. Dennis Lettenmaier, University of Washington, Seattle, WA.
2:00 p.m. | 15 RC02-035 (RC-2514): Linked Rainfall and Runoff Intensity-Duration-Frequency in the Face of Climate Change and Uncertainty (FY15 New Start) | Dr. Yonas Demissie, Washington State University, Richland, WA.
2:45 p.m. | Break
3:00 p.m. | 15 RC02-036 (RC-2515): Changes in Climate and its Effects on Timing of Snowmelt and Intensity-Duration-Frequency Curves (FY15 New Start) | Dr. Anna Wagner, U.S. Army Cold Regions Research and Engineering Laboratory, Fort Wainwright, AK.
3:45 p.m. | SERDP Council Meeting Discussion | Mr. Joseph Francis, SAB Chair.
4:00 p.m. | Strategy Session | Dr. Anne Andrews, Acting Executive Director.
4:30 p.m. | Public Discussion/Adjourn for the day

Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/.

Time is allotted at the close of each meeting day for the public to make comments. Oral comments are limited to 5 minutes per person.

Dated: August 15, 2014.
Aaron Siegel,
Alternate OSD Federal Register Liaison Officer, Department of Defense.

[FR Doc. 2014-19734 Filed 8-19-14; 8:45 am]

BILLING CODE 5001-06-P